FEDERAL EMERGENCY MANAGEMENT AGENCY

[FEMA-3154-EM]

New Mexico; Amendment No. 3 to Notice of an Emergency Declaration

AGENCY: Federal Emergency Management Agency (FEMA).

ACTION: Notice.

SUMMARY: This notice amends the notice of an emergency for the State of New Mexico, (FEMA-3154-EM), dated May 10, 2000, and related determinations.

EFFECTIVE DATE: May 24, 2000.

FOR FURTHER INFORMATION CONTACT: Madge Dale, Response and Recovery Directorate, Federal Emergency Management Agency, Washington, DC 20472, (202) 646-3772.

SUPPLEMENTARY INFORMATION: The notice of an emergency for the State of New Mexico is hereby amended to include reimbursement for the eligible costs associated with the pre-staging of Federal, State, Compact, and Emergency Management Assistance Compact fire suppression assets for a 30-day period beginning with the incident period of May 5, 2000. This assistance period may be extended. All pre-staging will be provided contingent upon joint recommendations and staging plans of the New Mexico Department of Forestry and the U.S. Forest Service. Reimbursement for costs associated with suppressing wildland fires will continue to be authorized under Section 420 of the Stafford Act. This assistance is for the following areas determined to have been adversely affected by the catastrophe declared an emergency by the President in his declaration of May 10, 2000:

Bernalillo, Catron, Chaves, Cibola, Colfax, Curry, DeBaca, Dona Ana, Eddy, Grant, Guadalupe, Harding, Hidalgo, Lea, Lincoln, Luna, McKinley, Mora, Otero, Quay, Roosevelt, San Juan, San Miguel, Sierra, Socorro, Taos, Torrance, Union, and Valencia Counties.

Los Alamos, Rio Arriba, Sandoval, and Santa Fe Counties (previously designated for emergency protective measures (Category B).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Lacy E. Suiter,
Executive Associate Director, Response and Recovery Directorate.

[FR Doc. 00-14303 Filed 6-6-00; 8:45 am]

BILLING CODE 6718-02-U